Proclamation 10396 of May 13, 2022

National Defense Transportation Day and National Transportation Week, 2022

By the President of the United States of America

A Proclamation

In 1919, Army Lieutenant Colonel Dwight D. Eisenhower joined a cross-country convoy of trucks and tanks to determine if our Nation had the capacity to transport military assets. He discovered a poorly connected patchwork of roads that were unsafe for civilians and unsuitable for our military needs. When he became the President 34 years later, Dwight Eisenhower made connecting the Nation a top priority by creating the unprecedented Interstate Highway System that linked the country to coast-to-coast travel and commerce, revolutionized public safety, and unleashed America's unrivaled sense of discovery and exploration.

Today, America's transportation system weaves together distant communities into one Nation, making our economy more competitive in the global market and enabling our American way of life. On National Defense Transportation Day and during National Transportation Week, we recognize the importance of our Nation's infrastructure to our national and economic security.

We also recognize that our transportation systems are not equally accessible to all groups. They link some neighborhoods while undermining, dividing, and leaving others behind. They create pollution and contribute to climate change. In addition, many of our roads, bridges, waterways, and airports that were once ranked among the best in the world have fallen into disrepair due to neglect and lack of investment.

That is why last year I signed the Bipartisan Infrastructure Law—the largest investment in America's infrastructure since President Dwight Eisenhower and the largest single investment ever in our roads, bridges, passenger rail, and public transit. These historic investments are funding crucial repairs to the infrastructure that our Nation relies on so heavily for interstate commerce and national security. The law also modernizes our Nation's ports and waterways, strengthening our supply chains, our economic growth, and our global competitiveness while protecting communities from the accelerating impact of climate change.

Working together, governments at every level will be positioned to deliver tangible results for the American people—safer roads, better public transit options, and a national network of electric vehicle charging infrastructure. We will reconnect communities and create good-paying jobs, building and maintaining infrastructure projects that are funded by this landmark legislation.

During National Transportation Week, we acknowledge the importance of our transportation infrastructure and honor the men and women who design, build, operate, and maintain it. We also recognize transportation workers who serve traveling Americans every day. As we enter a new era in transportation infrastructure, my Administration will continue to support our Nation's evolving transportation needs to fuel long-term economic growth and improve the quality of life for all Americans.

In recognition of the ongoing contributions of our Nation's transportation system and in honor of the devoted professionals who work to sustain its tradition of excellence, the United States Congress has requested, by joint resolution approved May 16, 1957, as amended (36 U.S.C. 120), that the President designate the third Friday in May of each year as “National Defense Transportation Day” and, by joint resolution approved May 14, 1962 (36 U.S.C. 133), that the week in which that Friday falls be designated as “National Transportation Week.”

NOW, THEREFORE, I, JOSEPH R. BIDEN JR., President of the United States of America, do hereby proclaim Friday, May 20, 2022, as National Defense Transportation Day and May 15 through May 21, 2022, as National Transportation Week. I urge all Americans to observe these occasions with appropriate ceremonies, programs, and activities as we show our appreciation to those who build and operate our Nation's transportation systems.

IN WITNESS WHEREOF, I have hereunto set my hand this thirteenth day of May, in the year of our Lord two thousand twenty-two, and of the Independence of the United States of America the two hundred and forty-sixth.

[FR Doc. 2022-10882

Filed 5-18-22; 8:45 am]

Billing code 3395-F2-P